DEPARTMENT OF THE TREASURY

Internal Revenue Service

26 CFR Part 601

[TD 8848]

RIN 1545-AX29

Use of Penalty Mail in the Location and Recovery of Missing Children; Correction

AGENCY: Internal Revenue Service (IRS), Treasury.

ACTION: Correction to procedural rules.

SUMMARY: This document contains a correction to procedural rules which were published in the Federal Register on Monday, December 13, 1999 (64 FR 69398), establishing the procedures under which the IRS may use penalty mail to aid in the location and recovery of missing children.

DATES: This correction is effective December 13, 1999.

FOR FURTHER INFORMATION CONTACT: Randall Hall at (202) 283-7900 or Sandy Kopta at (202) 622-3726 (not toll-free numbers).

SUPPLEMENTARY INFORMATION:

Background

The procedural rules that are the subject of this correction are the result of the Juvenile Justice and Delinquency Prevention Act of 1974.

Need for Correction

As published, the procedural rules (TD 8848) contain a typographical error that need correction to be corrected.

Correction of Publication

Accordingly, the publication of the procedural rules (TD 8848), which were the subject of FR Doc. 99-32098, is corrected as follows:

§ 601.901 [Corrected]

1. On page 69399, first column, § 601.901, paragraph (e) is corrected to read as follows:

§ 601.901 Missing children shown on penalty mail.

* * * * *

(e) Period of applicability. This section is applicable December 13, 1999 through December 31, 2002.

Dale D. Goode,
Federal Register Liaison, Assistant Chief Counsel (Corporate).

[FR Doc. 00-5241 Filed 3-23-00; 8:45 am]

BILLING CODE 4830-01-U